DEPARTMENT OF JUSTICE

Antitrust Division

Notice Pursuant to the National Cooperative Research and Production Act of 1993—Gap Year Association

Notice is hereby given that on September 26, 2022, pursuant to section 6(a) of the National Cooperative Research and Production Act of 1993, 15 U.S.C. 4301 et seq. (“the Act”), Gap Year Association (GYA) has filed written notifications simultaneously with the Attorney General and the Federal Trade Commission disclosing additions or changes to its standards development activities. The notifications were filed for the purpose of extending the Act's provisions limiting the recovery of antitrust plaintiffs to actual damages under specified circumstances. Specifically, the 2023 Gap Year Program Standards have been ratified by GYA's Standards and Accreditations Committee.

On June 6, 2012, GYA filed its original notification pursuant to section 6(a) of the Act. The Department of Justice published a notice in the Federal Register pursuant to section 6(b) of the Act on July 6, 2012 (77 FR 40085).

The last notification was filed with the Department on January 17, 2018. A notice was published in the Federal Register pursuant to section 6(b) of the Act on February 12, 2018 (83 FR 6051).

Catherine Reilly,
Counsel for Civil Operations, Antitrust Division.

[FR Doc. 2022-24251 Filed 11-7-22; 8:45 am]

BILLING CODE 4410-11-P